DEPARTMENT OF ENERGY

Western Area Power Administration

Notice of Availability of the Draft Environmental Impact Statement for the Proposed Solar Reserve LLC Quartzsite Solar Energy Project, La Paz County, AZ (DOE/EIS—0440) and the proposed Amendment to the Bureau of Land Management Yuma Field Office Resource Management Plan

AGENCY: Western Area Power Administration, DOE.

ACTION: Notice of Availability.

SUMMARY: In accordance with the National Environmental Policy Act (NEPA) of 1969, as amended, and the Federal Land Policy and Management Act (FLPMA) of 1976, as amended, Western Area Power Administration (Western) and the Bureau of Land Management (BLM) have prepared a Draft Environmental Impact Statement (DEIS) for the proposed Quartzsite Solar Energy Project (Project), in La Paz County, Arizona, and the proposed amendment to the Yuma Field Office (Yuma) Resource Management Plan (RMP), and by this notice are announcing the opening of the public comment period. Western is the lead Federal agency for purposes of satisfying the NEPA requirements with the BLM acting as a cooperating agency.

DATES: The public is invited to submit comments on the DEIS for the proposed Project and the proposed RMP amendment during the public comment period. To ensure that comments will be considered, Western or BLM must receive written comments on the DEIS/proposed RMP amendment within 90 days following the date the Environmental Protection Agency publishes its Notice of Availability in the Federal Register. Oral comments will be taken at a public hearing, which will be announced at least 15 days in advance through public notices, media releases, and/or mailings.

ADDRESSES: Written comments on the Project may be sent to Ms. Liana Reilly, NEPA Document Manager, Western Area Power Administration, P.O. Box 281213, Lakewood, CO 80228-8213 or sent by email to QuartzsiteSolarEIS@wapa.gov. Copies of the DEIS and proposed RMP amendment are available on the Western and BLM Project Web sites: http://www.wapa.gov/transmission/quartzsitesolar.htm and http://www.blm.gov/az/st/en/prog/energy/solar/quartzsite_solar_energy.html. Copies of the document are also available at the BLM Yuma Field Office, 2555 East Gila Ridge Road, Yuma, AZ 85365 and at the BLM Arizona State Office, One North Central Avenue, Phoenix, AZ 85004.

Before including your address, phone number, or email address in your comment, you should be aware that your entire comment may be made publicly available at any time. While you can ask us in your comment to withhold your information from public review, we cannot guarantee that we will be able to do so.

FOR FURTHER INFORMATION CONTACT: For information on the proposed Project, the EIS and general information about Western's transmission system, contact Ms. Liana Reilly, Western NEPA Document Manager, at (720) 962-7253 or the address provided above. Parties wishing to be placed on the Project mailing list for future information and to receive copies of the document should also contact Ms. Reilly. For general information on the DOE NEPA process, please contact Ms. Carol M. Borgstrom, Director, Office of NEPA Policy and Compliance (GC-54), U.S. Department of Energy, 1000 Independence Avenue SW., Washington, DC 20585, telephone (202) 586-4600 or (800) 472-2756. For information on BLM's role with the Project or the proposed RMP Amendment, contact Mr. Eddie Arreola, Supervisory Project Manager, (602) 417-9505, One North Central Avenue, Phoenix, AZ 85004 or Quatzsite_solar@blm.gov.

SUPPLEMENTARY INFORMATION: A Notice of Intent (NOI) to Prepare an EIS for the proposed Project in La Paz County was published in the Federal Register on January 14, 2010 (75 FR 2133). Western and BLM held public scoping meetings in Yuma, Arizona, on January 26, 2010, in Parker, Arizona, on January 27, 2010 and in Quartzsite, Arizona, on January 28, 2010. The formal scoping period ended February 16, 2010. A NOI for the proposed RMP amendment was published in the Federal Register on March 30, 2011 (76 FR 17668). Scoping meetings for the proposed RMP amendment were held by BLM in Yuma, Arizona, on April 18, 2011, and in Quartzsite, Arizona, on April 19, 2011. The formal scoping period for the proposed RMP amendment closed on April 29, 2011. Comments received during the scoping periods were considered in preparing the DEIS.

Proposed Project

The proposed Project is a 100-megawatt solar electric power plant that would use concentrating solar power technology to capture the sun's heat to make steam, which would power traditional steam turbine generators. The solar generation facility would contain the central receiver or tower, a solar field consisting of mirrors or heliostats to reflect the sun's energy to the central tower, a conventional steam turbine generator, insulated storage tanks for hot and cold liquid salt, ancillary tanks, evaporation ponds, a temporary construction laydown area, technical and non-technical buildings, transformers and a 161/230-kilovolt (kV) electrical substation, roads, and water wells. All Project components would be located on BLM-managed land. Quartzsite Solar Energy, LLC (QSE) has applied to Western to interconnect the proposed Project to Western's transmission system. A new 1.5-mile long 161/230-kV generator tie-line would extend from the southern boundary of the solar facility boundary to a new switchyard to be constructed adjacent to Western's existing Bouse-Kofa 161-kV transmission line. The switchyard would be on BLM-managed land and would be owned and operated by Western.

QSE has submitted a right-of-way (ROW) application to the BLM for the Project. The ROW application is for a total of 26,273 acres, of which 1,675 acres would be utilized for the final Project ROW if approved. The Project site is in an undeveloped area in La Paz County, Arizona, east of State Route (SR) 95, approximately 10 miles north of Quartzsite, Arizona, on lands managed by the BLM.

Agency Purpose and Need

Western's purpose and need for the Project is to respond to QSE's interconnection request in accordance with Western's Open Access Transmission Tariff. The BLM's purpose and need for the Project is to respond to QSE's application for a ROW under Title V of FLPMA (43 U.S.C. 1761) to construct, operate, and decommission the solar facility, 161/230-kV collector line and access road, and also to respond to Western's application for a switchyard, and fiber optic line on public lands administered by the BLM.

Proposed Agency Actions

Western's proposed action is to interconnect the proposed Project to Western's existing Bouse-Kofa 161-kV transmission line. As part of Western's proposed action, Western would also construct, operate and maintain the new switchyard and would establish either a fiber optic or microwave telecommunications point. In addition to responding to the project ROW applications analyzed in the EIS, BLM is also considering amending the Yuma RMP. The Yuma RMP recognizes the compatibility of solar generation facilities on public lands, but requires that such activities conform to designated visual resource management (VRM) classes.

Alternatives

The DEIS analyzes two Project alternatives, a dry-cooling technology and a hybrid cooling technology. The DEIS also analyzes the proposed RMP amendment to change approximately 6,800 acres of VRM Class III to VRM Class IV with a project approval, the proposed plan amendment without project approval, and a no action alternative. For the proposed amendment, BLM's preferred alternative is to amend the Yuma RMP. BLM has not identified a preferred alternative for the proposed project.

As required under NEPA, the DEIS analyzes the following no action alternatives: Western would deny the interconnection request and the BLM would either (1) decline to amend the Yuma RMP and deny the project proposal; or (2) amend the Yuma RMP to change the VRM management classification but deny the project proposal.

For purposes of NEPA compliance, Western is serving as the lead Federal agency with BLM acting as a cooperating agency. The DEIS analyzes site-specific impacts on air quality, biological resources, recreation, cultural resources, water resources, geological resources and hazards, hazardous materials handling, land use, noise, paleontological resources, public health, socioeconomics, soils, traffic and transportation, visual resources, waste management, and worker safety and fire protection, as well as facility design engineering, efficiency, reliability, transmission system engineering, and transmission line safety and nuisance.

Western and BLM welcome public comments on the DEIS and proposed RMP amendment.

Dated: October 19, 2011.
Timothy J. Meeks,
Administrator.

[FR Doc. 2011-29146 Filed 11-9-11; 8:45 am]

BILLING CODE 6450-01-P